ENVIRONMENTAL PROTECTION AGENCY

40 CFR Part 52

[EPA-R07-OAR-2015-0357; FRL-9931-33-Region 7]

Approval and Promulgation of Air Quality Implementation Plans; State of Iowa; Revisions to Linn County Air Quality Ordinance

AGENCY: Environmental Protection Agency (EPA).

ACTION: Direct final rule.

SUMMARY: The Environmental Protection Agency (EPA) is approving revisions to the State Implementation Plan (SIP) for the State of Iowa. The purpose of these revisions is to update the Linn County Air Quality Ordinance, Chapter 10. These revisions reflect updates to the Iowa statewide rules previously approved by EPA and will ensure consistency between the applicable local agency rules and Federally-approved rules.

DATES: This direct final rule will be effective September 28, 2015, without further notice, unless EPA receives adverse comment by August 27, 2015. If EPA receives adverse comment, we will publish a timely withdrawal of the direct final rule in the Federal Register informing the public that the rule will not take effect.

ADDRESSES: Submit your comments, identified by Docket ID No. EPA-R07-OAR-2015-0357, by one of the following methods:

1. www.regulations.gov. Follow the on-line instructions for submitting comments.

2. Email: Hamilton.heather@epa.gov.

3. Mail or Hand Delivery: Heather Hamilton, Environmental Protection Agency, Air Planning and Development Branch, 11201 Renner Boulevard, Lenexa, Kansas 66219.

Instructions: Direct your comments to Docket ID No. EPA-R07-OAR-2015-0357. EPA's policy is that all comments received will be included in the public docket without change and may be made available online at www.regulations.gov, including any personal information provided, unless the comment includes information claimed to be Confidential Business Information (CBI) or other information whose disclosure is restricted by statute. Do not submit through www.regulations.gov or email information that you consider to be CBI or otherwise protected. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, i.e., CBI or other information whose disclosure is restricted by statute. Certain other material, such as copyrighted material, will be publicly available only in hard copy form. Publicly available docket materials are available either electronically in www.regulations.gov or in hard copy at the Environmental Protection Agency, Air Planning and Development Branch, 11201 Renner Boulevard, Lenexa, Kansas 66219. The Regional Office's official hours of business are Monday through Friday, 8:00 a.m. to 4:30 p.m. excluding legal holidays. The interested persons wanting to examine these documents should make an appointment with the office at least 24 hours in advance.

FOR FURTHER INFORMATION CONTACT: Heather Hamilton, Environmental Protection Agency, Air Planning and Development Branch, 11201 Renner Boulevard, Lenexa, Kansas 66219, at 913-551-7039, or by email at Hamilton.heather@epa.gov.

SUPPLEMENTARY INFORMATION: Throughout this document “we,” “us,” or “our” refer to EPA. This section provides additional information by addressing the following:

I. What is being addressed in this document?

II. Have the requirements for approval of a SIP Revision been met?

III. What action is EPA taking?

IV. Statutory and Executive Order Reviews

I. What is being addressed in this document?

The State of Iowa has requested EPA approval of revisions to the local agency's rules and regulations, Linn County Air Quality Ordinance, Chapter 10, as a revision to the SIP. In order for the local program's “Air Quality Ordinance” to be incorporated into the Federally-enforceable SIP, on behalf of the local agency, the state must submit the formally adopted regulations and control strategies, which are consistent with the state and Federal requirements, to EPA for inclusion in the SIP. The regulation adoption process generally includes public notice, a public comment period and a public hearing, and formal adoption of the rule by the state authorized rulemaking body. In this case, that rulemaking body is the local agency. After the local agency formally adopts the rule, the local agency submits the rulemaking to the state, and then the state submits the rulemaking to EPA for consideration for formal action (inclusion of the rulemaking into the SIP). EPA must provide public notice and seek additional public comment regarding the proposed Federal action on the state's submission.

EPA received the request from the state to adopt revisions to the local air agency rules into the SIP on May 4, 2015. The revisions were adopted by the local agency on January 28, 2015, and became effective on January 30, 2015. EPA is approving the requested revisions to the Iowa SIP relating to the following:

• Chapter 10.1 “Purpose and Ambient Air Quality Standards”;

• Chapter 10.2 “Definitions”;

• Chapter 10.5 “Locally Required Permits”;

• Chapter 10.6 “Permit Fees”;

• Chapter 10.8 “Emissions from Fuel-Burning Equipment”;

• Chapter 10.12 “Sulfur Compounds”;

• Chapter 10.13 “Fugitive Dust,” and,

• Chapter 10.17 “Testing and Sampling of New and Existing Equipment.”

II. Have the requirements for approval of a SIP Revision been met?

The state submission has met the public notice requirements for SIP submissions in accordance with 40 CFR 51.102. The submission also satisfied the completeness criteria of 40 CFR part 51, appendix V.

III. What action is EPA taking?

We are taking direct final action to approve the amendments to the Linn County Air Quality Ordinance, Chapter 10. The local agency routinely revises its “Air Quality Ordinance” regulations to be consistent with the Federally-approved Iowa Administrative Code and are revised as follows:

Chapter 10.1, “Purpose and Ambient Air Quality Standards” is revised to cite the cross reference to state-approved rules at (455B).

Chapter 10.2, “Definitions” is revised to add “major modification,” “replacement unit,” and to revise the definitions of “regulated New Source Review (NSR) pollutant,” “significant,” and “untreated.” Punctuation and grammar corrections were made to the definitions of “Emissions Unit,” “Responsible Official,” and “Startup.”

Chapter 10.5, “Locally Required Permits,” includes revisions to 10.5(9), “Exemptions from the Authorization to Install Permit and Permit to Operate Requirements.” For the purposes of this publication, the exemptions are abbreviated but can be found in their entirety in the Technical Support Document included in the rulemaking docket: f. The equipment in laboratories, n. Asbestos demolition and renovation projects, u. Incinerators and pyrolysis cleaning furnaces, dd. Production welding, and ee. Electric hand soldering, wave soldering and electric solder paste reflow ovens. The following exemptions have been added with this rulemaking: mm. Equipment related to research and development activities at a stationary source, and, nn. A non-road diesel fueled engine as defined in 40 CFR 1068.30 and as amended through October 8, 2008.

Chapter 10.6, “Permit Fees,” is revised for administrative corrections to the fourth paragraph of item 2. “Annual Fee for Permit to Operate.”

Chapter 10.8, “Emissions from Fuel-Burning Equipment,” “d” has been removed in its entirety as it refers to the State of Iowa Compliance Sampling Manual which is now obsolete.

Chapter 10.12, “Sulfur Compounds,” item 2, “Other Processes Capable of Emitting Sulfur Dioxide” is revised to add a sentence that the paragraph shall not apply to devices which have been installed for air pollution abatement purposes where it is demonstrated by the owner of the source that the ambient air quality standards are not being exceeded.

Chapter 10.13, “Fugitive Dust” item 1, “Attainment and Unclassified Areas,” is revised to add that a person shall take reasonable precautions to prevent particulate matter from becoming airborne in quantities sufficient to cause a nuisance as defined in Iowa Code section 657.1 when the person allows, causes or permits any materials to be handled, transported or stored or a building, its appurtenances or a construction haul road to be used, constructed, altered, repaired or demolished. This does not apply to farming operations or dust generated by ordinary travel on unpaved roads. The revision further states what ordinary travel includes, and the public highway authority shall be responsible for taking corrective action in cases where said authority has received complaints.

Chapter 10.13, “Fugitive Dust” item 2, “Nonattainment Areas” is revised for administrative changes for clarification.

Chapter 10.17, “Testing and Sampling of New and Existing Equipment,” is revised for administrative, grammar, and punctuation corrections for clarification as follows: Item 1, “Continuous Monitoring of Opacity from Coal-Fired Steam Generating Units,” item 5, “Maintenance of Records of Continuous Monitors,” item 6, “Reporting of Continuous Monitoring Information,” item 7, “Tests by Owner,” item 8, “Tests by Department,” item 9, “Methods and Procedures,” and item 10, “Exemptions from Continuous Monitoring Requirements.”

Chapter 10.17, item 7, “Tests by Owner” is also revised to clarify when pretest meetings should be conducted and to clarify reporting requirements. Item 9, “Methods and Procedures,” is revised to cite the cross reference to state-approved rules as they apply to permit and compliance demonstration requirements.

As previously mentioned, additional information on the details of the Linn County Air Quality Ordinance revisions can be found in the Technical Support Document in the docket for this action.

We are publishing this direct final rule without a prior proposed rule because we view this as a noncontroversial action and anticipate no adverse comment. However, in the “Proposed Rules” section of this Federal Register, we are publishing a separate document that will serve as the proposed rule if adverse comments are received on this direct final rule. We will not institute a second comment period on this action. Any parties interested in commenting must do so at this time. For further information about commenting on this rule, see the ADDRESSES section of this document.

If EPA receives adverse comment, we will publish a timely withdrawal in the Federal Register informing the public that this direct final rule will not take effect. We will address all public comments in any subsequent final rule based on the proposed rule.

Statutory and Executive Order Reviews

In this rule, EPA is finalizing regulatory text that includes incorporation by reference. In accordance with requirements of 1 CFR 51.5, EPA is finalizing the incorporation by reference of Iowa Regulations for Chapter 10 Linn County Air Quality Ordinance, described in the direct final amendments to 40 CFR part 52 set forth below. EPA has made, and will continue to make, these documents generally available electronically through www.regulations.gov and/or in hard copy at the appropriate EPA office (see the ADDRESSES section of this preamble for more information).

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register.

A major rule cannot take effect until 60 days after it is published in the Federal Register. This action is not a “major rule” as defined by 5 U.S.C. 804(2).

Under section 307(b)(1) of the Clean Air Act, petitions for judicial review of this action must be filed in the United States Court of Appeals for the appropriate circuit by September 28, 2015. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: July 17, 2015.
Mark Hague,
Acting Regional Administrator, Region 7.

For the reasons stated in the preamble, EPA amends 40 CFR part 52 as set forth below:

PART 52—APPROVAL AND PROMULGATION OF IMPLEMENTATION PLANS

1. The authority citation for part 52 continues to read as follows:

Authority: 42 U.S.C. 7401 et seq.

Subpart Q—Iowa

2. In § 52.820, the table in paragraph (c) is amended by revising the entry for “Chapter 10” under the heading “Linn County” to read as follows:

§ 52.820 Identification of plan.

* * * * *

(c) * * *

EPA-Approved Iowa Regulations
Iowa citation | Title | State effective date | EPA approval date | Explanation
Iowa Department of Natural Resources Environmental Protection Commission [567]
* * * * * * *
Linn County
Chapter 10 | Linn County Air Quality Ordinance, Chapter 10 | 1/30/15 | 7/28/15 and [Insert Federal Register citation] | The following definitions are not SIP-approved in Chapter 10.2; Anaerobic lagoon, Biomass, Chemical processing plants (ethanol production facilities that produce ethanol by natural fermentation included in NAICS code 325193 or 312140 are not included in this definition); Federally Enforceable; Greenhouse gases; Maximum Achievable Control Technology (MACT); MACT floor. The following sections are not SIP approved: 10.4(1), Title V Permits; 10.5(9)“b” Locally Required Permits; Exemptions from the Authorization to Install Permit to Operate Requirements; 10.5(9) “ll”, Exemption for production painting, adhesive or coating units; 10.8(2)“b” Emissions From Fuel-Burning Equipment; Emission Limitation; 10.8(3) Emissions From Fuel-Burning Equipment; Exemptions for Residential Heaters Burning Solid Fuels; 10.8(4) Emissions from Fuel-Burning Equipment; Nuisance Conditions for Fuel Burning Equipment; 10.9(2), NSPS; 10.9(3), Emission Standards for HAPs; 10.9(4), Emission Standards for HAPs for Source Categories; 10.10(4) Variance from rules; 10.11, Emission of Objectionable Odors; 10.15, Variances, 10.17(13) Continuous Emissions Monitoring from Acid Rain Program, and 10.24, Penalty.
* * * * * * *

* * * * *

[FR Doc. 2015-18346 Filed 7-27-15; 8:45 am]

BILLING CODE 6560-50-P